DEPARTMENT OF TRANSPORTATION

Federal Railroad Administration

[Docket Number FRA-2013-0059]

Notice of Application for Approval of Discontinuance or Modification of a Railroad Signal System

In accordance with Part 235 of Title 49 Code of Federal Regulations (CFR) and 49 U.S.C. 20502(a), this document provides the public notice that by a document dated April 12, 2013, the Long Island Rail Road (LIRR) has petitioned the Federal Railroad Administration (FRA) seeking approval for the discontinuance or modification of a signal system. FRA assigned the petition Docket Number FRA-2013-0059.

Applicant: Long Island Rail Road, Mr. Kevin Tomlinson, Chief Engineer, Jamaica Station, Jamaica, New York 11435.

LIRR seeks approval of the proposed modification of the railroad signal interlocking systems at DB & Cabin M drawbridges on the Montauk Branch in Long Island City, NY. The DB and Cabin M drawbridges are on the JCC Operating Division, with DB being on the C Secondary Track, near Dutch Kills Bridge Station, and Cabin M being on the Montauk Cutoff Secondary Track, near Bliss Station.

The modification includes the removal of all associated locking devices from the interlocking signal circuitry due to the installation of straight rail over both drawbridges, which permanently rendered the drawbridges fixed in place and no longer operable.

The reason for the proposed modifications is that the DB and Cabin M drawbridges were straight railed in September 2009, after the waterway had stopped being used. Both drawbridges had deteriorated, and funding for repair or replacement could not be secured. The remaining locking devices, including rail locks, wedges, and rail lifts, are no longer necessary due to the replacement of the mitered rail with straight rails, fixating the drawbridges in place. The drawbridges remain protected by track circuits interlocked with eastward and westward signals.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 5, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on June 17, 2013.
Robert C. Lauby,
Deputy Associate Administrator for Regulatory and Legislative Operations.

[FR Doc. 2013-14898 Filed 6-20-13; 8:45 am]

BILLING CODE 4910-06-P